DEPARTMENT OF ENERGY

Federal Energy Regulatory Commission

[Project No. 2232-407, North Carolina]

Duke Energy Corporation; Notice of Availability of Environmental Assessment

July 26, 2002.

An environmental assessment (EA) is available for public review. The EA analyzes the environmental impacts of Duke Energy Corporation's (Duke) application to grant a non-project use of project land to Charlotte-Mecklenburg Utilities Department (CMUD) to increase its raw water withdrawal, in Mountain Island Lake, a reservoir for the Catawba-Wateree Hydroelectric Project. Duke's proposed grant would also allow York to withdrawal up to 330 million gallons of water per day. The Catawba-Wateree Project is on the Catawba River in Lancaster, York, and Fairfield Counties, South Carolina, and Gaston, Lincoln, and Burke Counties, North Carolina.

The EA was prepared by staff in the Office of Energy Projects, Federal Energy Regulatory Commission. In the EA, Commission staff conclude that approving Duke's application to grant the use would not constitute a major federal action significantly affecting the quality of the human environment. The EA may be viewed on the Commission's web site at http://www.ferc.gov using the “RIMS” link, select “Docket #” and follow the instructions (call 202-208-2222 for assistance). Copies are also available for inspection and reproduction at the Commission's Public Reference Room, located at 888 First Street, NE., Room 2A, Washington DC 20426, or by calling (202) 208-1371.

Linwood A. Watson, Jr.,
Deputy Secretary.

[FR Doc. 02-19408 Filed 7-31-02; 8:45 am]

BILLING CODE 6717-01-P